GENERAL SERVICES ADMINISTRATION

[OMB Control No. 3090-0235; Docket No. 2022-0001; Sequence No. 13]

Submission for OMB Review; General Services Administration Acquisition Regulation; Federal Supply Schedule Pricing Disclosures and Sales Reporting

AGENCY: Office of Acquisition Policy, General Services Administration (GSA).

ACTION: Notice of request for comments regarding an extension to an existing OMB clearance.

SUMMARY: Under the provisions of the Paperwork Reduction Act, the Regulatory Secretariat Division is submitting a request to the Office of Management and Budget (OMB) to review and approve an extension of a previously approved information collection requirement regarding OMB Control No. 3090-0235, Federal Supply Schedule Pricing Disclosures and Sales Reporting.

DATES: Submit comments on or before: December 2, 2022.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Thomas O'Linn, Procurement Analyst, General Services Acquisition Policy Division, GSA, 202-445-0390 or email gsarpolicy@gsa.gov.

SUPPLEMENTARY INFORMATION:

A. Purpose

This information collection is for GSA Federal Supply Schedules (FSS) offerors and contractors subject to certain pricing disclosures and sales reporting requirements. These pricing disclosures and sales reporting requirements are found within the basic version of General Services Administration Acquisition Regulation (GSAR) clause 552.238-80, Industrial Funding Fee and Sales Reporting, and GSAR 515.408(b) and (c). Alternate I of GSAR clause 552.216-70, Economic Price Adjustment—FSS Multiple Award Schedule Contracts; basic version of GSAR clause 552.238-81, Price Reductions; 552.238-83 Examination of Records by GSA; and 552.238-85, Contractor's Billing Responsibilities, are additional GSAR clauses directly associated with FSS contracts subject to these requirements. This information collection does not apply to GSA FSS offerors and contractors subject to Transactional Data Reporting (TDR) requirements. The burden associated with TDR requirements is covered under information collection OMB control number 3090-0306, Transactional Data Reporting.

B. Annual Reporting Burden

The total estimated annual public cost burden for this information collection is estimated to be $117,802,204.70 The total estimated annual public burden hours resulting from this information collection is 1,452,326.36 hours. These numbers are calculated by adding up the total estimated annual burden cost/hour for each of the following GSAR sections/clauses covered by this information collection: GSAR section 515.408(b) and (c); basic version of 552.238-80, Industrial Funding Fee and Sales Reporting; Alternate I of 552.216-70, Economic Price Adjustment—FSS Multiple Award Schedule Contracts; basic version of 552.238-81, Price Reductions; 552.238-83 Examination of Records by GSA; and 552.238-85, Contractor's Billing Responsibilities.

The calculation for some of these numbers account for the variation of burden associated with compliance with a given clause/form/instruction requirement. For example, for some of the calculations GSA is calculating the burden based on the difference between a “heavier lift” contract and a “lighter lift” contract. Contracts with heavier lifts are those with the characteristics leading to increased burden, such as higher sales volume, higher number of offerings, complexity of their offerings, higher transactions, complexity of transactions, and/or intricate business structures. For the purpose of determining “lift”, GSA is utilizing the Pareto principle, or “80/20 rule,” which states 80 percent of effects come from 20 percent of the population. Accordingly, GSA is categorizing contracts with a heavier lift as 20 percent and those with a lighter lift as those representing 80 percent.

Burden Cost/Hour Calculation

Total estimated burden hour/cost for the basic version of 552.238-80, Industrial Funding Fee and Sales Reporting.

The two primary activities associated with the basic version of 552.238-80, Industrial Funding Fee and Sales Reporting are initial setup and quarterly reporting. The below provides the basis for calculating the burden associated with these two activities. The burden associated with these two activities is then used to calculate the overall burden for this clause.

Initial Setup

○ Estimated hourly rate & job position equivalency. The estimated hourly cost associated with this task is based on the task being accomplished by personnel equivalent to a GS-14, Step 5 employee. A GS-14, Step 5 employee hourly rate for 2022 is $82.51 (“Rest of U.S.” locality using OPM Salary Table 2022-GS, Effective January 2022).

○ Estimated hours by system for initial set-up. A contractor complying with these requirements will absorb a one-time setup burden for purposes of establishing a reporting system (i.e., automated reporting system vs. manual reporting system). The estimated setup time varies between automated and manual reporting systems. GSA estimates the average one-time initial setup burden is 8 hours for a manual system and 40 hours for an automated system.

Quarterly Reporting

○ Estimated hourly rate & job position equivalency. The estimated hourly cost associated with this task is based on the task being accomplished by personnel equivalent to a GS-12, Step 5 employee. A GS-12, Step 5 employee hourly rate for 2022 is $58.72 (i.e., using “Rest of U.S.” locality within the OPM Salary Table for 2022-GS, Effective January 2022).

○ Categorization of contractors by sales revenue. GSA estimates the likelihood of contractors with lower to no reportable sales will spend relatively little time on reporting. In contrast, contractors with more reportable sales will face a higher reporting burden. To account for this difference, GSA is using the below sale revenue categories:

Category 1: No sales activity/revenue (i.e., $0.00).

Category 2: Sales between $0.01 and $25,000.00.

Category 3: Sales between $25,000.01 and $250,000.00.

Category 4: Sales between $250,000.01 and $1 million.

Category 5: Sales over $1 million.

The below table shows the estimated number of FSS contractors by sales revenue category:

FSS Contractors by Sales Revenue Category
| FSS
Category 1 | 6,292
Category 2 | 1,160
Category 3 | 2,987
Category 4 | 1,828
Category 5 | 2,762
Total | 15,029

○ Automated system vs. manual reporting system. GSA estimates the likelihood of a contractor creating an automated reporting system increases with a contractor's sales revenue. In contrast, contractors with little to no sales revenue are unlikely to expend the effort needed to establish an automated reporting system. To account for this difference, GSA is using the below table. The below table shows by sales revenue category the estimated percentage of the likelihood of a contractor using a manual reporting system vs automated reporting system:

% of Contractors by Type of Reporting System
[Manual vs. automated]
Sales category | Manual system (%) | Automated system (%)
Category 1 | 100 | 0
Category 2 | 100 | 0
Category 3 | 90 | 10
Category 4 | 50 | 50
Category 5 | 10 | 90

The following table show the estimated number of FSS contractors by type of reporting system:

Estimated Number of FSS Contractors by Type of Reporting System
[Manual vs. Automated]
| Manual system | Automated system
Category 1 | 6,292 | 0
Category 2 | 1,160 | 0
Category 3 | 2,688 | 299
Category 4 | 914 | 914
Category 5 | 276 | 2,486
Total | 11,330 | 3,699

○ Estimated quarterly reporting time (hours)—by reporting system and sales revenue category. GSA estimates that the reporting time varies by type of reporting system (i.e., manual or automated) and by respective sales revenue category. The below table shows GSA's estimated quarterly reporting time per sales revenue category and system type:

Quarterly Reporting Time—Hours by Type of Reporting System and Sales Revenue Category
| Manual systems | Automated systems
Category 1 | 0.25 | 2.00
Category 2 | 1.00 | 2.00
Category 3 | 2.00 | 2.00
Category 4 | 4.00 | 2.00
Category 5 | 8.00 | 2.00

Total estimated burden hour/cost for the basic version of GSAR clause 552.238-80, Industrial Funding Fee and Sales Reporting.

Initial Setup

Total estimated annual burden hours: 18,240

Total estimated annual cost burden: $1,505,037.12

Quarterly Reporting

Total estimated annual burden hours: 85,484

Total estimated annual cost burden: $5,019,941.05

Total estimated annual burden hour/cost for GSAR 515.408(b) and (c).

Heavier Lift

Estimated # of responses per year: 499

Estimated burden hours per response: × 82.96

Total estimated annual burden hours: 41,397.04

Estimated cost per hour: × $82.51

Total estimate annual cost burden: 3,415,793.96

Lighter Lift

Estimated # of responses per year: 1,996

Estimated burden hours per response: × 64.82

Total estimated annual burden hours: 129,381.72

Estimated cost per hour: × $82.51

Total estimate annual cost burden: $10,675,591.35

Total estimated annual burden hour/cost for Alternate I of 552.216-70, Economic Price Adjustment—FSS Multiple Award Schedule Contracts.

Heavier Lift

Estimated # of responses per year: 420

Estimated burden hours per response: × 10.45

Total estimated annual burden hours: 4,389

Estimated cost per hour: × $82.51

Total estimate annual cost burden: $362,149.56

Lighter Lift

Estimated # of responses per year: 1,680

Estimated burden hours per response: × 9.17

Total estimated annual burden hours: 15,406.60

Estimated cost per hour: × $82.51

Total estimate annual cost burden: $1,271,162.27

Total estimated annual burden hour/cost for basic version of GSAR clause 552.238-81, Price Reductions.

The primary activities associated with this clause are training, compliance systems, and notification. As a result, for the purpose of calculating the overall burden associated with this clause, the burden was calculated for each of these activities using first. For some of these activities the heavier lift and lighter lift categorization was used.

Training—Heavier Lift

Estimated # of responses per year: 2,620

Estimated burden hours per response: × 40

Total estimated annual burden hours: 104,800

Estimated cost per hour: × $82.51

Total estimate annual cost burden: $8,647,362.40

Training—Lighter Lift

Estimated # of responses per year: 10,479

Estimated burden hours per response: × 20

Total estimated annual burden hours: 209,580

Estimated cost per hour: × $82.51

Total estimate annual cost burden: $17,293,074.54

Monitoring—Heavier Lift

Estimated # of responses per year: 2,620

Estimated burden hours per response: × 175

Total estimated annual burden hours: 458,500

Estimated cost per hour: × $82.51

Total estimate annual cost burden: $37,832,210.50

Monitoring—Lighter Lift

Estimated # of responses per year: 10,479

Estimated burden hours per response: × 35

Total estimated annual burden hours: 366,765

Estimated cost per hour: × $82.51

Total estimate annual cost burden: $30,262,880.45

Notification

Estimated # of responses per year: 900

Estimated burden hours per response: × 4.25

Total estimated annual burden hours: 3,825

Estimated cost per hour: × $82.51

Total estimate annual cost burden: $315,612.23

Total estimated annual burden hour/cost for GSAR clause 552.238-83 Examination of Records by GSA.

Estimated # of respondents per year: 32

Estimated burden hours per respondent: × 455

Total estimated annual burden hours: 14,560

Estimated cost per hour: × $82.51

Total estimated annual cost burden: $1,201,389.28

Total estimated annual burden hour/cost for GSAR clause 552.238-85, Contractor's Billing Responsibilities, is 0 burden hours/$0.00 burden cost. The reason for zero burden being associated with this clause is because the record keeping requirement contained in this clause does not add any additional burden to what is already captured by the basic version of GSAR clause 552.238-80, Industrial Funding Fee and Sales Reporting, which is covered by this information collection.

C. Public Comments

A 60-day notice published in the Federal Register at 87 FR 51421 on August 22, 2022. No comments were received.

Obtaining Copies of Proposals: Requesters may obtain a copy of the information collection documents from the GSA Regulatory Secretariat Division, by calling 202-501-4755 or emailing GSARegSec@gsa.gov. Please cite “OMB Control No. 3090-0235, Federal Supply Schedule Pricing Disclosures and Sales Reporting”, in all correspondence.

Jeffrey A. Koses,
Senior Procurement Executive, Office of Acquisition Policy, Office of Government-wide Policy.

[FR Doc. 2022-23815 Filed 11-1-22; 8:45 am]

BILLING CODE 6820-61-P